DEPARTMENT OF COMMERCE

National Oceanic and Atmospheric Administration

[I.D. 040405B]

Pacific Fishery Management Council; Public Meeting

AGENCY: National Marine Fisheries Service (NMFS), National Oceanic and Atmospheric Administration (NOAA), Commerce.

ACTION: Notice of public meeting.

SUMMARY: The Groundfish Stock Assessment Review (STAR) Panel for gopher rockfish, cowcod, California scorpionfish, and vermilion rockfish will hold a work session which is open to the public.

DATES: The gopher rockfish, cowcod, California scorpionfish, and vermilion rockfish STAR Panel will meet beginning at 8 a.m., Monday, May 9, 2005. The meeting will continue through Friday, May 13, 2005, beginning at 8 a.m. every morning. The meetings will end at 5 p.m. each day, or as necessary to complete business.

ADDRESSES: The gopher rockfish, cowcod, California scorpionfish, and vermilion rockfish STAR Panel meeting will be held at NMFS, Southwest Regional Office, 501 West Ocean Boulevard, Long Beach, CA 90802-4213; telephone: 562-980-4000.

Council address: Pacific Fishery Management Council, 7700 NE Ambassador Place, Suite 200, Portland, OR 97220-1384.

FOR FURTHER INFORMATION CONTACT: Ms. Stacey Miller, Northwest Fisheries Science Center; telephone: 206-860-3480; or Mr. John DeVore, Pacific Fishery Management Council; telephone: 503-820-2280.

SUPPLEMENTARY INFORMATION: The purpose of the STAR Panel meeting is to review draft stock assessment documents and any other pertinent information, work with the Stock Assessment Teams to make necessary revisions, and produce a STAR Panel report for use by the Council family and other interested persons. No management actions will be decided by the STAR Panel. The STAR Panel's role will be development of recommendations and reports for consideration by the Council at its June meeting in Foster City, CA.

Although nonemergency issues not contained in the meeting agenda may come before the STAR Panel participants for discussion, those issues may not be the subject of formal STAR Panel action during this meeting. STAR Panel action will be restricted to those issues specifically listed in this notice and any issues arising after publication of this notice that require emergency action under Section 305(c) of the Magnuson-Stevens Fishery Conservation and Management Act, provided the public has been notified of the STAR Panel participants' intent to take final action to address the emergency.

Entry to the Southwest Regional Office requires visitors to show a valid picture ID and register with security. A visitor's badge, which must be worn while at the Southwest Region Facility, will be issued to non-federal employees participating in the meeting.

Special Accommodations

This meeting is physically accessible to people with disabilities. Requests for sign language interpretation or other auxiliary aids should be directed to Ms. Carolyn Porter at 503-820-2280 at least 5 days prior to the meeting date.

Dated: April 4, 2005.
Emily Menashes,
Acting Director, Office of Sustainable Fisheries, National Marine Fisheries Servicee.

[FR Doc. E5-1592 Filed 4-6-05; 8:45 am]

BILLING CODE 3510-22-S